DEPARTMENT OF ENERGY

Federal Energy Regulatory Commission

[Docket No. CP16-496-000]

Tennessee Gas Pipeline Company, L.L.C.; Notice of Public Scoping Session for the Proposed Lone Star Project and Request for Comments on Environmental Issues

The staff of the Federal Energy Regulatory Commission (FERC or Commission) will hold a public scoping session as part of their preparation of an environmental assessment (EA) in Edna, Texas to receive comments on the Lone Star Project involving construction and operation of facilities by Tennessee Gas Pipeline Company, L.L.C. (Tennessee) in San Patricio and Jackson Counties, Texas. The date, time, and location of the meeting is detailed in the table below.

FERC Public Scoping Session, Lone Star Project
Date and time | Location
Tuesday, December 13, 2016, 5:00 p.m. to 10:00 p.m. ᵃ | Edna Elementary School, 400 Apollo Drive, Edna, TX 77957.
ᵃ FERC staff may conclude the session at 8:00 p.m. if all comments have been received. See session format below.

This notice is being sent to the Commission's current environmental mailing list for this project. State and local government representatives should notify their constituents of this proposed project and encourage them to comment on their areas of concern. More information about the Commission's EA and Tennessee's project is available in the Notice of Intent to Prepare an Environmental Assessment for the Proposed Lone Star Project and Request for Comments on Environmental Issues (NOI) issued on October 12, 2016. The NOI describes the scoping process that is under way seeking public participation in the environmental review of this project. Based on public concerns, this notice announces the continuation of the scoping process, initiated by the NOI, the Commission will use to gather input from the public and interested agencies on the project. The scoping period has been extended until December 21, 2016. The Commission invites you to attend the public scoping session.

The primary goal of the scoping session is to identify the specific environmental issues and concerns that should be considered and addressed in the EA. Commission staff will accept verbal comments between 5:00 p.m. and 10:00 p.m. You can make a difference by providing us with your specific comments or concerns about the project. Your comments should focus on the potential environmental effects, reasonable alternatives, and measures to avoid or lessen environmental impacts. Your input will help the Commission staff determine what issues they need to evaluate in the EA. To ensure that your comments are timely and properly recorded, please send your comments so that the Commission receives them in Washington, DC on or before December 21, 2016.

In addition to providing verbal comments at the public scoping session, you may submit comments in writing. It is important to note that verbal comments hold the same weight as written or electronically submitted comments.

If you submitted comments in response to the October 12, 2016 NOI, you do not need to re-submit those comments.

Session Format

There will not be a formal presentation by Commission staff when the session begins; however, Commission staff will be available to answer your questions about the environmental review process. Your comments will be recorded individually by a stenographer (with FERC staff or representative present) and placed into the Commission's administrative record. A transcript of the scoping session will be entered into the FERC's publicly available eLibrary (see below for instructions on using eLibrary). The session format is as follows:

• Tickets are handed out on a “first come, first serve” basis starting at 5:00 p.m. and ending promptly at 8:00 p.m.

• Comments will be taken until 10:00 p.m. However, if no additional numbers have been handed out and all individuals who wish to provide comments have had an opportunity to do so, staff may conclude the session at 8:00 p.m.

• Individuals are called in ticket number order to provide verbal comments to be transcribed by a court reporter for the public record.

• Time limits on verbal comments may be enforced to ensure that all those wishing to comment have the opportunity to do so within the designated session time.

• Written comments may be submitted in addition to, or in lieu of, verbal comments.

• Additional materials about FERC and the environmental review process are available at information stations at the session.

Session Conduct

Proper conduct will help the sessions maintain a respectful atmosphere for attendees to learn about the FERC Environmental Review Process and to be able to provide comments effectively.

• Loudspeakers, lighting, oversized visual aids, or other visual or audible disturbances are not permitted.

• Disruptive video and photographic equipment may not be used.

• Conversations should be kept to a reasonable volume. Attendees should be respectful of those providing verbal comments to the court reporters.

• Recorded interviews are not permitted within the session space.

• FERC reserves the right end the session if disruptions interfere with the opportunity for individuals to provide verbal comments or if there is a safety or security risk.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP16-496). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

Dated: November 28, 2016.
Kimberly D. Bose,
Secretary.

[FR Doc. 2016-29216 Filed 12-5-16; 8:45 am]

BILLING CODE 6717-01-P